DEPARTMENT OF LABOR

Employment and Training Administration

[TA-W-65,212]

Ryder Logistics, Ledgewood, NJ; Notice of Termination of Investigation

Pursuant to Section 221 of the Trade Act of 1974, as amended, an investigation was initiated on February 11, 2009, in response to a petition filed by a State agency representative on behalf of workers of Ryder Logistics working at Philips Consumer Lifestyles in Ledgewood, New Jersey.

The petitioning group of workers is covered by an earlier petition certification (TA-W-63,575, as amended), which does not expire until July 16, 2010. Consequently, further investigation in this case would serve no purpose and this investigation is terminated.

Signed at Washington, DC, this 2nd day of March 2009.
Linda G. Poole,
Certifying Officer, Division of Trade Adjustment Assistance.

[FR Doc. E9-5185 Filed 3-10-09; 8:45 am]

BILLING CODE 4510-FN-P